DEPARTMENT OF THE INTERIOR

National Park Service

60-Day Notice of Intention To Request Clearance of Collection of Information; Opportunity for Public Comment

AGENCY: Department of Interior, National Park Service.

ACTION: Notice and request for comments.

SUMMARY: Under the provisions of the Paperwork Reduction Act of 1995 and 5 CFR Part 1320, Reporting and Record Keeping Requirements, the National Park Service (NPS) invites public comments on an extension of a currently approved collection of information (OMB #1024-0026).

DATES: Public comments on this Information Collection Request (ICR) will be accepted on or before January 4, 2010.

ADDRESSES: Send comments to: Lee Dickinson, Special Park Uses Program Manager, 1849 C St., NW. (2465), Washington, DC 20240; or via fax at 202/371-1710; or via e-mail at lee_dickinson@nps.gov, please put “ICR #1024-0026” in the subject line. All responses to the Notice will be summarized and included in the request for the Office of Management and Budget (OMB) approval. All comments will become a matter of public record.

To Request a Draft of Proposed Collection of Information Contact: Lee Dickinson, Special Park Uses Program Manager, 1849 C St., NW. (2465), Washington, DC 20240; or via telephone at 202/513-7092; or via fax at 202/371-1710; or via e-mail at lee_dickinson@nps.gov. You are entitled to a copy of the entire ICR package free of charge.

SUPPLEMENTARY INFORMATION:

Title: Special Park Use Applications (Portions of 36 CFR 1-7, 13, 20, 34).

Form(s): 10-930 (Application for Special Use Permit); 10-931 (Application for Commercial Filming/Still Photography Permit, short form); 10-932 (Application for Commercial Filming/Still Photography Permit, long form).

OMB Control Number: 1024-0026.

Expiration Date: 3/31/2010.

Type of Request: Extension of a currently approved collection of information.

Description of Need: Under NPS regulations, the information gathered is used to determine the likelihood that the proposed activity would cause unacceptable impacts to park resources, values or purposes and allows the park manager to make a valued judgment as to whether or not to permit the requested activity. The special park uses considered under these permit applications include, but are not limited to, special events, commercial filming, certain still photography activities, and grazing where such activity is authorized by law or regulation.

Description of respondents: Individuals or households, not-for-profit entities, businesses or other for-profit entities.

Estimated average number of respondents: 18,600 per year.

Estimated average number of responses: 18,600 per year.

Frequency of Response: 1 per respondent.

Estimated average time burden per respondent: Special Event permit and Vehicle Use permit: .5 hour

First Amendment permits/Distribution of printed material, Commerical Filming permit, Still Photography permit, Agricultural Use, and Access to Otherwise Closed Area: 1 hour.

Estimated total annual reporting burden: 11,150 hours per year.

Comments are invited on: (1) The practical utility of the information being gathered; (2) the accuracy of the burden hour estimate; (3) ways to enhance the quality, utility, and clarity of the information being collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

October 29, 2009.
Cartina Miller,
NPS, Information Collection Clearance Officer.

[FR Doc. E9-26468 Filed 11-3-09; 8:45 am]

BILLING CODE 4312-52-P